DEPARTMENT OF COMMERCE

National Oceanic and Atmospheric Administration

RIN 0648-XC680

Gulf of Mexico Fishery Management Council; Public Meeting

AGENCY: National Marine Fisheries Service (NMFS), National Oceanic and Atmospheric Administration (NOAA), Commerce.

ACTION: Council to convene a public meeting.

SUMMARY: The Gulf of Mexico Fishery Management Council will convene a meeting of the Standing, Special Mackerel and Ecosystem Scientific and Statistical Committees (SSC).

DATES: The meeting will convene at 8:30 a.m. on Wednesday, May 29, 2013 and conclude by 12 p.m. Friday, May 31, 2013.

ADDRESSES: The meeting will be held at the Renaissance International Plaza Hotel, 4200 Jim Walter Boulevard, Tampa, FL 33607; telephone: (813) 877-9200.

Council address: Gulf of Mexico Fishery Management Council, 2203 N. Lois Avenue, Suite 1100, Tampa, FL 33607.

FOR FURTHER INFORMATION CONTACT: Steven Atran, Population Dynamics Statistician; Gulf of Mexico Fishery Management Council; telephone: (813) 348-1630.

SUPPLEMENTARY INFORMATION: The Standing, Special Mackerel and Special Reef Fish SSCs will initially meet jointly on Wednesday, May 29, 2013 to elect a chair and vice chair. Afterwards, the Standing and Special Mackerel SSC will review the final results of the SEDAR 28 cobia and Spanish mackerel benchmark assessments. The SSC previously reviewed the assessments at its March 27-28, 2013 meeting, but was unable to recommend acceptable biological catch (ABC) levels because a number of questions remained on the use of certain parameters necessary to produce the probability distribution functions (PDFs) needed to determine overfishing limit (OFL) and ABC. These included whether to use a proxy value for the fishing mortality rate at maximum sustainable yield (MSY), what value to use for the steepness of the spawner-recruit curve, and how to incorporate uncertainty with respect to the natural mortality rate estimate into the results. The analysts sought advice from the SSC at the March meeting, where it was determined that a proxy based on 30% spawning potential ratio should be used for the fishing mortality rate at MSY, a fixed steepness value of 0.8 be used for the spawner-recruit curve, and a weighted average of PDFs under several estimates of natural mortality be used to account for the uncertainty. Based on the completed analyses, the SSC will determine whether to accept the assessments, and if accepted, will recommend ABC for cobia and Spanish mackerel. The SSC will also review terms of reference for the upcoming SEDAR 38 (king mackerel) benchmark assessment, and will solicit for participants in SEDAR 38 workshops.

Following the Standing and Special Mackerel SSC session, the Standing and Special Reef Fish SSC will meet for the remainder of the meeting on Wednesday, May 29, 2013 through Friday, May 31, 2013. The SSC will receive a presentation on SEDAR 31 red snapper benchmark assessment; determine whether to accept the assessment, and if accepted, will recommend ABC for red snapper that is consistent with the rebuilding plan. The SSC will also discuss the impact of explosive oil and gas rig removals on the red snapper stock. Copies of the agenda and other related materials can be obtained by calling (813) 348-1630 or can be downloaded from the Council's ftp site, ftp.gulfcouncil.org.

Although other non-emergency issues not on the agenda may come before the Scientific and Statistical Committees for discussion, in accordance with the Magnuson-Stevens Fishery Conservation and Management Act, those issues may not be the subject of formal action during this meeting. Actions of the Scientific and Statistical Committees will be restricted to those issues specifically identified in the agenda and any issues arising after publication of this notice that require emergency action under section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Council (see ADDRESSES) at least 5 working days prior to the meeting.

Dated: May 7, 2013.
Tracey L. Thompson,
Acting Deputy Director, Office of Sustainable Fisheries, National Marine Fisheries Service.

[FR Doc. 2013-11151 Filed 5-9-13; 8:45 am]

BILLING CODE 3510-22-P